DEPARTMENT OF DEFENSE

Defense Acquisition Regulations System

48 CFR Parts 202 and 204

Defense Federal Acquisition Regulation Supplement; Technical Amendments

AGENCY: Defense Acquisition Regulations System, Department of Defense (DoD).

ACTION: Final rule.

SUMMARY: DoD is making technical amendments to the Defense Federal Acquisition Regulation Supplement (DFARS) to update organization names, office symbols, and an Internet address.

DATES: Effective Date: August 2, 2007.

FOR FURTHER INFORMATION CONTACT: Ms. Michele Peterson, Defense Acquisition Regulations System, OUSD(AT&L)DPAP(DARS), IMD 3C132, 3062 Defense Pentagon, Washington, DC 20301-3062. Telephone (703) 602-0311; facsimile (703) 602-7887.

SUPPLEMENTARY INFORMATION: This final rule amends DFARS text as follows:

• Section 202.101. Updates the lists of Army and Defense Logistics Agency contracting activities.

• Section 204.7005. Updates the Internet address for DoD order code assignment listings, and updates the office symbol for the Air Force order code monitor.

List of Subjects in 48 CFR Parts 202 and 204

Government procurement.

Michele P. Peterson,
Editor, Defense Acquisition Regulations System.

Therefore, 48 CFR Parts 202 and 204 are amended as follows:

PART 202—DEFINITIONS OF WORDS AND TERMS

1. The authority citation for 48 CFR Parts 202 and 204 continues to read as follows:

Authority: 41 U.S.C. 421 and 48 CFR Chapter 1.

2. Section 202.101 is amended in the definition of “Contracting activity” as follows:

a. By revising the list with the heading “ARMY”; and

b. Under the heading “DEFENSE LOGISTICS AGENCY”, by removing “Office of the Deputy Director, Logistics Operations” and adding in its place “Acquisition Management Directorate”. The revised list reads as follows:

202.101 Definitions.

* * * * *

Army

Headquarters, U.S. Army Contracting Agency Joint Contracting Command—Iraq/Afghanistan

National Guard Bureau

Program Executive Office for Simulation, Training, and Instrumentation

U.S. Army Aviation and Missile Command

U.S. Army Communications-Electronics Command

U.S. Army Corps of Engineers

U.S. Army Intelligence and Security Command

U.S. Army Joint Munitions and Lethality Life Cycle Management Command

U.S. Army Materiel Command, Office of Command Contracting

U.S. Army Medical Command

U.S. Army Medical Research and Materiel Command

U.S. Army Military Surface Deployment and Distribution Command

U.S. Army Research, Development, and Engineering Command

U.S. Army Space and Missile Defense Command

U.S. Army Sustainment Command

U.S. Army Tank-Automotive and Armaments Command

* * * * *

PART 204—ADMINISTRATIVE MATTERS

§ 204.7005 [Amended]

3. Section 204.7005 is amended as follows:

a. In paragraph (c), by removing “Air Force: SAF/AQCX” and adding in its place “Air Force: SAF/AQCI”; and

b. In paragraph (d) by removing “http://www.acq.osd.mil/dpap/dfars/ordercode.htm” and adding in its place “http://www.acq.osd.mil/dpap/dars/ordercodes/index.htm”.

[FR Doc. E7-14897 Filed 8-1-07; 8:45 am]

BILLING CODE 5001-08-P